DEPARTMENT OF HOMELAND SECURITY

[Docket No. FLETC-2006-0003]

Advisory Committee to the Office of State and Local Training

AGENCY: Federal Law Enforcement Training Center (FLETC), DHS.

ACTION: Notice of Federal Advisory Committee Meeting.

SUMMARY: The Advisory Committee to the Office of State and Local Training (OSL) will meet on October 4, 2006, in Brunswick, GA. The meeting will be open to the public.

DATES: The Advisory Committee to the Office of State and Local Training will meet Wednesday, October 4, 2006, from 8 a.m. to 3 p.m. Please note that the meeting may close early if the committee has completed its business.

ADDRESSES: The meeting will be held at the Holiday Inn Express, 138 Glynco Parkway, Brunswick, GA. Send written material, comments, and/or requests to make an oral presentation to Reba Fischer, Designated Federal Officer (DFO), 1131 Chapel Crossing Road (TH 396), Glynco, GA 31524. Written materials, comments, and/or requests to make an oral presentation at the meeting should reach the contact person listed below by September 22, 2006. Requests to have a copy of your material distributed to each member of the committee prior to the meeting should reach the contact person at the address below by September 22, 2006. Comments must be identified by FLETC-2006-0003 and may be submitted by one of the following methods:

• Federal eRulemaking Portal: http://www.regulations.gov. Follow the instructions for submitting comments.

• E-mail: reba.fischer@dhs.gov. Include docket number in the subject line of the message.

• Fax: (912) 267-3531. (Not a toll-free number).

• Mail: Reba Fischer, Federal Law Enforcement Training Center, Department of Homeland Security, 1131 Chapel Crossing Road, Townhouse 396, Glynco, GA 31524.

Instructions: All submissions received must include the words “Department of Homeland Security” and the docket number for this action. Comments received will be posted without alteration at www.regulations.gov, including any personal information provided.

Docket: For access to the docket to read background documents or comments received by the Advisory Committee to the Office of State and Local Training, go to www.regulations.gov.

FOR FURTHER INFORMATION CONTACT: Reba Fischer, Designated Federal Officer, 912-267-2343, reba.fischer@dhs.gov.

SUPPLEMENTARY INFORMATION: Notice of this meeting is given under the Federal Advisory Committee Act, 5 U.S.C. App. 1 et seq. (Pub. L. 92-463). The mission of the Advisory Committee to the Office of State and Local Training is to advise and make recommendations on matters relating to the selection, development, content and delivery of training services by the OSL/FLETC to its State, local, campus, and tribal law enforcement customers.

Draft Agenda

The draft agenda for this meeting includes briefings and discussion on training; new initiatives; training validation; strategic goals; and the training needs of State, local, campus, and tribal law enforcement officers.

Procedural

This meeting is open to the public. Please note that the meeting may close early if all business is finished.

At the discretion of the Co-chairs, members of the public may make an oral presentation during the meeting. If you would like to make an oral presentation at the meeting, please notify Reba Fischer. If you would like a copy of your material distributed to each member of the Committee in advance of the meeting, please submit 25 copies to Reba Fischer by September 22, 2006.

Visitors must pre-register attendance to ensure adequate seating. Please provide your name and telephone number by close of business on September 22, 2006, to Reba Fischer (contact information above).

Information on Services for Individuals With Disabilities

For information on facilities or services for individuals with disabilities or to request special assistance at the meeting, contact Reba Fischer (contact information above) as soon as possible.

Dated: September 1, 2006.
Seymour Jones,
Deputy Assistant Director, Office of State and Local Law Enforcement Training.

[FR Doc. E6-15075 Filed 9-11-06; 8:45 am]

BILLING CODE 4810-32-P